DEPARTMENT OF THE INTERIOR

National Park Service

Plan of Operations, Environmental Assessment, and Draft Floodplain and Wetland Statements of Findings for BNP Petroleum Corporation's Plan of Operations To Drill and Produce the State Tract 991 #1, Dunn-McCampbell 12A, and Dunn-McCampbell 11A Wells, Padre Island National Seashore, TX

AGENCY: National Park Service, Department of the Interior.

ACTION: Notice of availability of a Plan of Operations, Environmental Assessment, and draft Floodplain and Wetland Statements of Findings for a Plan of Operations to drill and produce the State Tract 991 #1, Dunn-McCampbell 12A, and Dunn-McCampbell 11A Wells in Padre Island National Seashore.

SUMMARY: Notice is hereby given in accordance with Section 9.52(b) of Title 36 of the Code of Federal Regulations, Part 9, Subpart B, of a Plan of Operations submitted by BNP Petroleum Corporation, to drill and produce the State Tract 991 #1, Dunn-McCampbell 12A, and Dunn-McCampbell 11A Wells in Padre Island National Seashore, Kleberg County, Texas. Additionally, the NPS has prepared an Environmental Assessment and draft Floodplain and Wetland Statements of Findings for this proposal.

DATES: The above documents are available for public review and comment through November 14, 2007.

ADDRESSES: The Plan of Operations, Environmental Assessment, and draft Floodplain and Wetland Statements of Findings are available for public review and comment in the Office of the Superintendent, Padre Island National Seashore, 20301 Park Road 22, Corpus Christi, Texas 78480. The documents are also available at the Planning, Environment and Public Comment (PEPC) Web site at http://parkplanning.gov.

FOR FURTHER INFORMATION CONTACT: Mr. Darrell Echols, Chief, Division of Science and Resources Management, Padre Island National Seashore, P.O. Box 181300, Corpus Christi, Texas 78480-1300, Telephone: 361-949-8173, ext. 223, e-mail at Darrell_Echols@nps.gov.

SUPPLEMENTARY INFORMATION: If you wish to comment on the Plan of Operations, Environmental Assessment, and draft Floodplain and Wetland Statements of Findings, you may mail comments to the name and address below or post comments online at http://parkplanning.nps.gov/. This environmental assessment will be on public review for 30 days. Before including your address, phone number, e-mail address, or other personal identifying information in your comment, you should be aware that your entire comment—including your personal identifying information—may be made publicly available at any time. While you can ask us in your comment to withhold your personal identifying information from public review, we cannot guarantee that we will be able to do so.

Dated: October 10, 2007.
Joe Escoto,
Superintendent, Padre Island National Seashore.

[FR Doc. 07-5207 Filed 10-18-07; 8:45 am]

BILLING CODE 4312-53-P